DEPARTMENT OF THE INTERIOR

National Park Service

[NPS-WASO-NAGPRA-NPS0032104; PPWOCRADN0-PCU00RP14.R50000]

Notice of Intent To Repatriate Cultural Items: U.S. Department of the Interior, National Park Service, Tuzigoot National Monument, Clarkdale, AZ

AGENCY: National Park Service, Interior.

ACTION: Notice.

SUMMARY: The U.S. Department of the Interior, National Park Service, Tuzigoot National Monument, in consultation with the appropriate Indian Tribes or Native Hawaiian organizations, has determined that the cultural items listed in this notice meet the definition of unassociated funerary objects. Lineal descendants or representatives of any Indian Tribe or Native Hawaiian organization not identified in this notice that wish to claim these cultural items should submit a written request to Tuzigoot National Monument. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to Tuzigoot National Monument at the address in this notice by July 26, 2021.

FOR FURTHER INFORMATION CONTACT: Lloyd Masayumptewa, Acting Superintendent, Tuzigoot National Monument, P.O. Box 219, Camp Verde, AZ 86322, telephone (928) 567-5276, email Lloyd_Masayumptewa@nps.gov.

SUPPLEMENTARY INFORMATION: Notice is here given in accordance with the Native American Graves Protection and Repatriation Act (NAGPRA), 25 U.S.C. 3005, of the intent to repatriate cultural items under the control of the U.S. Department of the Interior, National Park Service, Tuzigoot National Monument, Clarkdale, AZ, that meet the definition of unassociated funerary objects under 25 U.S.C. 3001.

This notice is published as part of the National Park Service's administrative responsibilities under NAGPRA, 25 U.S.C. 3003(d)(3). The determinations in this notice are the sole responsibility of the Superintendent, Tuzigoot National Monument.

History and Description of the Cultural Items

Tuzigoot Pueblo, Hatalacva Pueblo, and Tuzigoot Extension Pueblo in the Verde Valley of Arizona, were excavated in 1933 and 1934 by University of Arizona graduate students, Louis Caywood and Edward Spicer, when the three sites were on private land owned by the United Verde Copper Company. The three sites were excavated as part of a single project funded through the Civil Works Administration. Excavation notes indicate that several of the human remains excavated during this project were left in-situ or were reburied at the close of the excavation in 1934 without the associated grave goods, which were taken to a private museum in Clarkdale, AZ, or held in private hands. When Tuzigoot National Monument was established in 1939, the artifacts were transferred to Tuzigoot National Monument.

Between 1933-1934, 17 cultural items were removed from Hatalacva Pueblo in Yavapai County, AZ. The 17 unassociated funerary objects are 13 bowls, one pendent, one cup, one necklace, and one awl.

Between 1933-1934, 7,171 cultural items were removed from Tuzigoot Pueblo in Yavapai County, AZ. The 7,171 unassociated funerary objects are one bow, two basketry fragments, one spindle whorl, two axes, one crystal, one prayer stick, 19 dendrochronology samples, 13 jars, 84 bowls, four miniature bowls, four pitchers, four ladles, one miniature jar, 6,969 beads, 12 pendants, 19 bracelets, three unworked shells, eight projectile points, six necklaces, five rings, four worked shells, one worked sherd, two worked bones, two drills, two unworked bones, and one pigment.

Between 1933-1934, 896 cultural items were removed from Tuzigoot Extension Pueblo in Yavapai County, AZ. The 896 unassociated funerary objects are 19 bowls, one jar, one miniature jar, one ladle, one whistle, one bracelet, one ring, 844 beads, six pendants, 14 projectile points, one crystal, two ground stone artifacts, two knives, and two drills.

Tuzigoot Pueblo is a large pueblo with more than 100 rooms, which is classified by archeologists as Southern Sinagua, Honanki and Tuzigoot phases. Occupation dates range from A.D. 1125-1425. Tuzigoot Extension Pueblo and Hatalacva Pueblo are multi-room pueblos near Tuzigoot National Monument, also classified as Southern Sinagua, Honanki, and Tuzigoot phases.

The Hopi Tribe of Arizona considers all of Arizona to be within traditional Hopi lands or within areas where Hopi clans migrated in the past. Evidence demonstrating continuity between the people that lived at Tuzigoot, Tuzigoot Extension, and Hatalacva and the Hopi Tribe of Arizona includes archeological, anthropological, linguistic, folkloric, and oral traditions. Ceramic vessels made only on the Hopi mesas as well as coiled basketry demonstrate continuity between Tuzigoot Pueblo, Tuzigoot Extension Pueblo, and Hatalacva Pueblo, and the Hopi people. During consultation, Hopi clan members also identified ancestral names and traditional stories about specific events and ancestral people in the Verde Valley.

Determinations Made by the U.S. Department of the Interior, National Park Service, Tuzigoot National Monument

Officials of the U.S. Department of the Interior, National Park Service, Tuzigoot National Monument have determined that:

• Pursuant to 25 U.S.C. 3001(3)(B), the 8,084 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the 8,084 unassociated funerary objects and the Hopi Tribe of Arizona.

Additional Requestors and Disposition

Lineal descendants or representatives of any Indian Tribe or Native Hawaiian organization not identified in this notice that wish to claim these cultural items should submit a written request with information in support of the claim to Lloyd Masayumptewa, Acting Superintendent, Tuzigoot National Monument, P.O. Box 219, Camp Verde, AZ 86322, telephone (928) 567-5276, email Lloyd_Masayumptewa@nps.gov, by July 26, 2021. After that date, if no additional claimants have come forward, transfer of control of the unassociated funerary objects to the Hopi Tribe of Arizona may proceed.

The U.S. Department of the Interior, National Park Service, Tuzigoot National Monument is responsible for notifying the Ak-Chin Indian Community [previously listed as the Ak Chin Indian Community of the Maricopa (Ak Chin) Indian Reservation, Arizona]; Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Apache Nation of the Camp Verde Indian Reservation, Arizona; Yavapai-Prescott Indian Tribe [previously listed as Yavapai-Prescott Tribe of the Yavapai Reservation, Arizona]; and the Zuni Tribe of the Zuni Reservation, New Mexico that this notice has been published.

Dated: June 9, 2021.
Melanie O'Brien,
Manager, National NAGPRA Program.

[FR Doc. 2021-13509 Filed 6-24-21; 8:45 am]

BILLING CODE 4312-52-P